DEPARTMENT OF THE INTERIOR

Bureau of Land Management

[PO4820000251]

Notice of Intent To Prepare an Environmental Impact Statement for the Silver Peak Lithium Mine Amendment to Plan of Operations Project, Esmeralda County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Tonopah Field Office, Tonopah, Nevada, intends to prepare an environmental impact statement (EIS) to consider the potential effects of the Silver Peak Lithium Mine Amendment to Plan of Operations Project (Project), Esmeralda County, Nevada. This notice announces the beginning of the scoping period to solicit public comments and identify issues.

DATES: Please submit your comments concerning the scope of the analysis, potential alternatives, and identification of relevant information and studies to ensure BLM receives them no later than March 31, 2025. The BLM will be holding two virtual public scoping meetings. The specific dates and times of these scoping meetings will be announced at least 15 days in advance on the project's web page on the BLM National NEPA Register at: https://eplanning.blm.gov/eplanning-ui/project/2035664/510. To afford the BLM the opportunity to consider comments, please ensure your comments are received prior to the close of the 30-day scoping period or 15 days after the last public meeting, whichever is later.

ADDRESSES: You may submit comments related to the Silver Peak Lithium Mine Amendment to Plan of Operations Project by any of the following methods:

• Website: https://eplanning.blm.gov/eplanning-ui/project/2035664/510.

• Email: BLM_NV_BMDO_P&EC_NEPA@blm.gov.

• Mail: BLM Tonopah Field Office, Attn: Silver Peak EIS, P.O. Box 911, Tonopah, NV 89049.

Documents pertinent to this proposal may be examined online at https://eplanning.blm.gov/eplanning-ui/project/2035664/510, and at the BLM Tonopah Field Office, 1553 South Main Street, Tonopah, NV 89049.

FOR FURTHER INFORMATION CONTACT: Erik Bray, Project Manager; telephone: (775) 861-6451; address: 1340 Financial Boulevard., Reno, Nevada 89502; email: ebray@blm.gov. Please contact Mr. Bray to have your name added to the project's mailing list. Individuals in the United States who are deaf, deafblind, hard of hearing, or have a speech disability may dial 711 (TTY, TDD, or TeleBraille) to access telecommunications relay services for contacting Mr. Bray. Individuals outside the United States should use the relay services offered within their country to make international calls to the point-of-contact in the United States.

SUPPLEMENTARY INFORMATION: The BLM will consider authorizing an amendment to Albemarle U.S. Inc.'s plan of operations to address existing but previously unauthorized surface disturbance (existing unauthorized areas) and the proposed expansion of surface disturbance (expansion areas) on public lands (Proposed Action) at the Silver Peak Lithium Operation (SPLO).

The Project is located approximately 40 miles southwest of Tonopah, near the town of Silver Peak, in Esmeralda County, Nevada. The existing surface disturbance at the Project is approximately 6,462 acres, composed of 5,914 acres of private land owned by Albemarle and 548 acres of public land administered by the BLM. The Proposed Action, which would include the existing unauthorized areas and the expansion areas of the SPLO, would add another 543 acres of private land owned by Albemarle and 1,053 acres of public land administered by the BLM.

Purpose and Need for the Proposed Action

The BLM's purpose for the Proposed Action is to respond to Albemarle's request to amend the plan of operations for the SPLO and to analyze the potential environmental effects associated with the Proposed Action and feasible alternatives. The BLM's need for the Proposed Action is established by the BLM's responsibilities under section 302 of FLPMA and under 43 CFR part 3800, subpart 3809, “Surface Management.” Section 302 and subpart 3809 set forth the BLM's responsibility to ensure that operations under the Mining Law of 1872 prevent unnecessary or undue degradation of public lands.

Preliminary Proposed Action and Alternatives

The Proposed Action would consist of a modification of Albemarle's authorized plan of operations for the SPLO under the regulations found at 43 CFR part 3800, subpart 3809. The Proposed Action would allow the SPLO to reconcile existing activities on the public lands that are not currently in compliance with subpart 3809 and would allow the SPLO to expand its operations. The existing but previously unauthorized surface disturbance (existing unauthorized areas) covers 770 acres of public land and includes impoundments, a transfer pump station and piping infrastructure, and a conveyance trench.

The facilities in the proposed expansion area would allow operational flexibility and would contribute 658 acres of surface disturbance (375 acres of private land, 283 acres of public land). The proposed expansion area would include the construction of a new strong brine complex with two transfer pump stations and related pipelines, two weak brine ponds, and future production well drilling.

The mine life and annual production of lithium would not be modified with this action.

Under the no action alternative, BLM would not approve the proposed amendment to the plan of operations, and the activities described in the Proposed Action would not occur. The proposed expansion areas would not be constructed, and the existing unauthorized areas would remain in place, subject to the BLM's exercise of its enforcement authority, which could include reclamation of the existing unauthorized areas.

Summary of Expected Impacts

The EIS analysis will focus on potential effects to air quality; cultural resources; socioeconomics; water resources; noxious weeds and invasive, non-native species; migratory birds and raptors; special status species; noise; Native American religious concerns; hazardous and solid wastes; visual resources; paleontology; soils; and vegetation.

Anticipated Permits and Authorizations

• Amended Plan of Operations—Bureau of Land Management

• Migratory Bird Special Purpose Utility Permit, Rehabilitation Permit—U.S. Fish & Wildlife Service, Migratory Bird Permit Office

Schedule for the Decision-Making Process

The BLM will provide additional opportunities for public participation consistent with the NEPA process, including a 45-day comment period on the draft EIS. The draft EIS is anticipated in mid-2025; the final EIS is anticipated in late 2025, and a record of decision in early 2026.

Public Scoping Process

This notice of intent initiates the scoping period. The BLM will be holding two virtual public scoping meetings. The specific dates and times of these scoping meetings will be announced at least 15 days in advance on the project's web page on the BLM National NEPA Register at: https://eplanning.blm.gov/eplanning-ui/project/2035664/510.

Lead and Cooperating Agencies

The BLM Tonopah Field Office, Battle Mountain District, is the lead agency for this EIS. The U.S. Fish & Wildlife Service Migratory Bird Program and the Nevada Department of Wildlife are serving as cooperating agencies for the preparation and review of the EIS. Additional agencies and organizations may be identified as potential cooperating agencies to participate in the environmental analysis of the project.

Responsible Officials

Jon Sherve, District Manager, Battle Mountain District Office; Perry Wickham, Field Manager, Tonopah Field Office.

Nature of Decision To Be Made

The BLM's potential decision relative to the proposed amendment as informed by the EIS includes: (1) approval of the proposed Silver Peak Lithium Mine Amendment to Plan of Operations Project as submitted; (2) approval of the proposed Silver Peak Lithium Mine Amendment to Plan of Operations Project subject to changes or conditions, as analyzed in the EIS, that the BLM deems necessary to prevent unnecessary or undue degradation of public lands; or (3) denial of the proposed Silver Peak Lithium Mine Amendment to Plan of Operations Project if the BLM determines that the proposal would result in unnecessary or undue degradation of public lands.

Additional Information

The BLM will identify, analyze, and consider mitigation to address the potential effects to resources from the Proposed Action and all analyzed reasonable alternatives, including appropriate mitigation measures not included in the Proposed Action or alternatives. Mitigation may include avoidance, minimization, rectification, reduction or elimination over time, and compensation and may be considered at multiple scales, including the landscape scale.

The BLM will utilize and coordinate the NEPA process to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed project will assist the BLM in identifying and evaluating potential impacts to such resources.

The BLM will consult with Indian Tribal Nations on a government-to-government basis in accordance with Departmental policies. Tribal concerns, including impacts on Indian trust assets and potential impacts to cultural resources, will be given due consideration. Federal, State, and local agencies, along with Indian Tribal Nations and other stakeholders that may be interested in or affected by the proposed Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Jon D. Sherve,
District Manager, BLM Battle Mountain District Office.

[FR Doc. 2025-03299 Filed 2-27-25; 8:45 am]

BILLING CODE 4331-21-P